DEPARTMENT OF TRANSPORTATION

Federal Aviation Administration

14 CFR Part 71

[Docket No. FAA-2006-24234; Airspace Docket No. 06-AWP-5]

RIN 2120-AA66

Amendment to Class E Airspace; Provo, UT

AGENCY: Federal Aviation Administration (FAA) DOT.

ACTION: Final rule.

SUMMARY: This action amends the Class E airspace area at Provo, UT. A review of the legal description revealed that it does not reflect the controlled airspace area of the Class D or the current airport reference point (ARP) for Provo Municipal Airport. This action attends the Class E ARP and the airspace area to coincide with the Class D airspace legal description.

DATES: Effective Date: 0901 UTC, September 28, 2006.

FOR FURTHER INFORMATION CONTACT: Francie Hope, Airspace Specialist, Western Terminal Service Area, Federal Aviation Administration, 15000 Aviation Boulevard, Lawndale, California 90261; telephone (310) 725-6502.

SUPPLEMENTARY INFORMATION:

History

There is a discrepancy between the Airport Reference Point (ARP) of the Class E2 airspace area at Provo Municipal Airport, UT, and the Class D ARP. The ARP of the Class E2 airspace is amended to correspond with the Class D airspace ARP. In addition, the Class E2 airspace legal description is changed to coincide with the Class D legal description. Class E2 airspace designations are published in paragraph 6002 of FAA Order 7400.90 dated September 1, 2006, and effective September 15, 2006, which is incorporated by reference in 14 CFR part 71.1. The Class E airspace designation listed in this document will be published subsequently in that Order.

The Rule

This action amends Title 14 Code of Federal Regulations (14 CFR) part 71 by amending the ARP in the Class E2 airspace legal description of Provo Municipal Airport, UT, and changing it to coincide with the Class D airspace legal description. Accordingly, since this action only involves a change in the airport's legal description of the Provo, UT, Class E2 airspace area, and does not involve a change in the dimensions or operating requirements of that airspace, notice and public procedure under 5 U.S.C. 533(b) are unnecessary. The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.90, Airspace Designations and Reporting Points, dated September 1, 2006, and effective September 15, 2006, is amended as follows:

Paragraph 6002 Class E2 Airspace.

* * * * *

ANM UT E2 Provo, UT [Amended]

Provo Municipal Airport, UT

(Lat. 40°13′09″ N, long. 111°42′42″ W)

Spanish Fork-Springville, UT

(Lat. 40°08′30″ N, long. 111°39′41″ W)

That airspace extending upward from the surface to and including 7,000 feet MSL within a 4.3-mile radius of Provo Municipal airport, excluding that airspace within a 2.4 mile radius of the Spanish Fork-Springville Airport. This Class D airspace is effective during specific dates and times established in advance by a Notice to Airmen. The effective date and time will thereafter be continuously published in the Airport/Facility Directory.

* * * * *

Issued in Los Angeles, California, on July 18, 2006.
Leonard A. Mobley,
Acting Area Director, Western Terminal Operations.

[FR Doc. 06-6592 Filed 7-31-06; 8:45 am]

BILLING CODE 4910-13-M